DEPARTMENT OF THE INTERIOR

Bureau of Land Management

[ES-032-1430-BJ, ES-51103, Group 104, Michigan]

Notice of Filing of Plat of Survey; MIchigan

The plat of the dependent resurvey of the Pointe Aux Barques Lighthouse Reservation in lot 2, section 2, Township 18 North, Range 14 East, Michigan Meridian, Michigan, will be officially filed in Eastern States, Springfield, Virginia at 7:30 a.m., on August 20, 2001.

The survey was made at the request of the Milwaukee Field Office.

All inquiries or protests concerning the technical aspects of the survey must be sent to the Chief Cadastral Surveyor, Eastern States, Bureau of Land Management, 7450 Boston Boulevard, Springfield, Virginia 22153, prior to 7:30 a.m., August 20, 2001.

Copies of the plat will be made available upon request and prepayment of the appropriate fee.

Dated: June 25, 2001.
Stephen D. Douglas,
Chief Cadastral Surveyor.

[FR Doc. 01-17661 Filed 7-13-01; 8:45 am]

BILLING CODE 4310-6J-P